DEPARTMENT OF COMMERCE

National Oceanic and Atmospheric Administration

RIN: 0648-XJ98

North Pacific Fishery Management Council; Public Meetings

AGENCY: National Marine Fisheries Service (NMFS), National Oceanic and Atmospheric Administration (NOAA), Commerce.

ACTION: Notice of an Aleutian Island Ecosystem Team Workshop.

SUMMARY: The North Pacific Fishery Management Council's (Council) Aleutian Islands Ecosystem Team will meet in Seattle, WA.

DATES: The meetings will be held September 9-10, 2008, 8:30 a.m. to 4:30 p.m.

ADDRESSES: The meetings will be held at the Alaska Fishery Science Center, 7600 Sand Point Way, NE, Building 4, National Marine Mammal Laboratory Conference Room, Room 2039, Seattle, WA.

Council address: North Pacific Fishery Management Council, 605 W. 4th Avenue, Suite 306, Anchorage, AK 99501-2252.

FOR FURTHER INFORMATION CONTACT: Diana Evans, North Pacific Fishery Management Council; telephone: (907) 271-2809.

SUPPLEMENTARY INFORMATION: The agenda will include the following discussions: Review new information on the Aleutian Island ecosystem; review and re-evaluate Fishery Ecosystem Plan (FEP) indicators; develop ecosystem policy metrics for Council review; and address how to incorporate social science and human dimensions in the FEP.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305 ( c ) of the Magnuson-Stevens Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: August 21, 2008.
Emily H. Menashes,
Acting Director, Office of Sustainable Fisheries, National Marine Fisheries Service.

[FR Doc. E8-19787 Filed 8-25-08; 8:45 am]

BILLING CODE 3510-22-S